DEPARTMENT OF THE INTERIOR

Bureau of Land Management

[CO-200-1220-PA]

Notice of Proposed Supplementary Rules for Public Lands in Park County, CO: Guffey Gorge/Guffey Gulch

AGENCY: Bureau of Land Management, Interior.

ACTION: Notice of proposed supplementary rules.

SUMMARY: The Bureau of Land Management (BLM)'s Royal Gorge Field Office is proposing supplementary rules to regulate conduct on specific public lands within Park County, Colorado. The rules apply to the public lands called Guffey Gorge, also known as Guffey Gulch. BLM has determined these rules necessary to protect the area's natural resources and to provide for public health and safe public recreation.

DATES: You should submit your comments by December 9, 2005. In developing final supplementary rules, BLM need not consider comments postmarked, received in person or by electronic mail after this date.

ADDRESSES: Mail, personal, or messenger delivery: Bureau of Land Management, Royal Gorge Field Office, 3170 East Main Street, Cañon City, Colorado 81212. Internet e-mail: rgfo_comments@blm.gov (Include “Attn: Guffey Gorge”)

FOR FURTHER INFORMATION CONTACT: Roy L. Masinton, Field Manager, or Leah Quesenberry, Outdoor Recreation Planner, Royal Gorge Field Office, at the address listed above or by telephone at 719-269-8500. Individuals who use a telecommunications device for the deaf (TDD) may contact them individually through the Federal Information Relay Service at 1-800/877-8339, 24 hours a day, seven days a week.

SUPPLEMENTARY INFORMATION:

I. Public Comment Procedures

II. Background

III. Discussion of the Supplementary Rules

IV. Procedural Matters

I. Public Comment Procedures

Please submit your comments on issues related to the proposed supplementary rules, in writing, according to the ADDRESSES section, above. Comments on the proposed supplementary rules should be specific, confined to issues pertinent to the proposed supplementary rules, and explain the reason for any recommended change. Where possible, your comments should reference the specific section or paragraph of the proposal that you are addressing. BLM need not consider or include in the Administrative Record for the final rule comments that we receive after the close of the comment period (see DATES) or comments delivered to an address other than those listed above (see ADDRESSES).

BLM will make your comments, including your name and address, available for public review at the address listed in ADDRESSES above during regular business hours (8 a.m. to 4 p.m., Monday through Friday, except on Federal holidays). Under certain conditions, BLM can keep your personal information confidential. You must prominently state your request for confidentiality at the beginning of your comment. BLM will consider withholding your name, street address, and other identifying information on a case-by-case basis to the extent allowed by law. BLM will make available to the public all submissions from organizations and businesses and from individuals identifying themselves as representatives or officials of organizations or businesses.

II. Background

Guffey Gorge/Guffey Gulch is a small tract (80 acres) of public land in Park County, Colorado. It is surrounded by private land with Park County Road 102 providing legal public access. Until five years ago, recreational use of this area was light, and the area was used primarily by local residents for picnicking, hiking, and swimming. Recreational use of the area has increased significantly over the past five years—resulting in resource damage, user conflicts, and safety hazards for visitors and surrounding private landowners.

III. Discussion of Supplementary Rules

These supplementary rules apply to approximately 80 acres of public lands known as Guffey Gorge, identified as follows:

Park County, Colorado, Sixth Principal Meridian

T. 15 S., R. 71 W.

Section 4: SE¼SE¼

Section 9: NE¼NE¼

These proposed supplementary rules are needed to address significant public safety concerns and resource protection issues resulting from increased public use and unsafe user conduct on public lands known as Guffey Gorge. The supplementary rules are proposed under the authority of 43 CFR 8365.1-6, 8341.1, and 8364.1. This notice, with a detailed map, will be posted at the Royal Gorge Field Office.

IV. Procedural Matters

Executive Order 12866, Regulatory Planning and Review

These proposed supplementary rules are not a significant regulatory action and are not subject to review by Office of Management and Budget under Executive Order 12866. These proposed supplementary rules will not have an annual effect of $100 million or more on the economy. They will not adversely affect in a material way the economy, productivity, competition, jobs, the environment, public health or safety, or state, local, or tribal governments or communities. These proposed supplementary rules will not create a serious inconsistency or otherwise interfere with an action taken or planned by another agency. These proposed supplementary rules do not materially alter the budgetary effects of entitlements, grants, user fees, or loan programs or the rights or obligations of their recipients; nor do they raise novel legal or policy issues. They merely establish rules of conduct for public use of a limited area of public lands in order to protect natural resources and public health and safety.

Clarity of the Supplementary Rules

Executive Order 12866 requires each agency to write regulations that are simple and easy to understand. We invite your comments on how to make these proposed supplementary rules easier to understand, including answers to questions such as: (1) Are the requirements in the proposed supplementary rules clearly stated? (2) Do the proposed supplementary rules contain technical language or jargon that interferes with their clarity? (3) Is the description of the proposed supplementary rules in the “Discussion of Supplementary Rules” section of this preamble helpful to your understanding of the proposed supplementary rules? How could this description be more helpful in making the proposed supplementary rules easier to understand?

Please send any comments you have on the clarity of the supplementary rules to either of the addresses specified in the ADDRESSES section.

National Environmental Policy Act

BLM has prepared an environmental assessment (EA) and has found that these proposed supplementary rules would not constitute a major Federal action significantly affecting the quality of the human environment under section 102(2)(C) of the National Environmental Policy Act of 1969 (NEPA), 42 U.S.C. 4332(2)(C). The supplementary rules would merely establish rules of conduct for public use of a limited area of public lands in order to protect natural resources and public health and safety. Although some uses, such as camping, would be prohibited in the area, the area would still be open to other recreation uses. A detailed statement under NEPA is not required. BLM has placed the EA and Finding of No Significant Impact (FONSI) on file in the BLM Administrative Record at the address specified in the ADDRESSES section. BLM invites the public to review these documents and suggests that anyone wishing to submit comments in response to the EA and FONSI do so in accordance with the Written Comments section above.

Regulatory Flexibility Act

Congress enacted the Regulatory Flexibility Act of 1980 (RFA), as amended, 5 U.S.C. 601-612, to ensure that Government regulations do not unnecessarily or disproportionately burden small entities. The RFA requires a regulatory flexibility analysis if a rule would have a significant economic impact, either detrimental or beneficial, on a substantial number of small entities. These proposed supplementary rules should have little effect on business, organizational, or governmental entities of whatever size. They merely would impose reasonable restrictions on certain recreational activities on certain public lands to protect natural resources, the environment, human health, and safety. Therefore, BLM has determined under the RFA that these proposed supplementary rules would not have a significant economic impact on a substantial number of small entities.

Small Business Regulatory Enforcement Fairness Act (SBREFA)

These proposed supplementary rules are not a “major rule” as defined at 5 U.S.C. 804(2). They would not result in an annual effect on the economy of $100 million or more, in a major increase in costs or prices, or in significant adverse effects on competition, employment, investment, productivity, innovation, or on the ability of United States-based enterprises to compete with foreign-based enterprises in domestic and export markets. They merely would impose reasonable restrictions on certain recreational activities on certain public lands to protect natural resources, the environment, human health, and safety.

Unfunded Mandates Reform Act

These proposed supplementary rules do not impose an unfunded mandate on state, local or tribal governments, in the aggregate, or the private sector, of more than $100 million in any one year; nor do these proposed supplementary rules have a significant or unique effect on small governments. They would merely impose reasonable restrictions on certain recreational activities on certain public lands to protect natural resources and the environment, human health, and safety. Therefore, BLM is not required to prepare a statement containing the information required by the Unfunded Mandates Reform Act at 2 U.S.C. 1532.

Executive Order 12630, Governmental Actions and Interference With Constitutionally Protected Property Rights (Takings)

The proposed supplementary rules are not a government action capable of interfering with constitutionally protected property rights. The reasonable restrictions that would be imposed by these supplementary rules would not deprive anyone of property or interfere with anyone's property rights. Therefore, the Department of the Interior has determined that the rule would not cause a taking of private property or require further discussion of takings implications under this Executive Order.

Executive Order 13132, Federalism

The proposed supplementary rules will not have a substantial direct effect on the states, on the relationship between the national government and the states, or on the distribution of power and responsibilities among the various levels of government. The shooting restrictions in the supplementary rules do not apply to hunting with a state hunting license. Therefore, in accordance with Executive Order 13132, BLM has determined that the proposed supplementary rules do not have sufficient Federalism implications to warrant preparation of a Federalism Assessment.

Executive Order 12988, Civil Justice Reform

Under Executive Order 12988, the Office of the Solicitor has determined that these proposed supplementary rules would not unduly burden the judicial system and that the requirements of sections 3(a) and 3(b) (2) of the Order are met.

Executive Order 13175, Consultation and Coordination With Indian Tribal Governments

In accordance with Executive Order 13175, we have found that these proposed supplementary rules do not contain policies that have tribal implications. As such, no duties under Executive Order 13175 are required.

Executive Order 13211, Actions Concerning Regulations That Significantly Affect Energy Supply, Distribution, or Use

In accordance with Executive Order 13211, BLM has determined that the proposed supplementary rules are not significant energy actions. The rules are not likely to have a significant adverse effect on energy supply, distribution or use, including any shortfall in supply or price increase, and should have no substantial effect on fuel consumption.

Paperwork Reduction Act

These supplementary rules do not contain information collection requirements that the Office of Management and Budget must approve under the Paperwork Reduction Act of 1995, 44 U.S.C. 3501 et seq.

Author

The principal author of these supplementary rules is Leah Quesenberry, Outdoor Recreation Planner, Royal Gorge Field Office, Bureau of Land Management.

Supplementary Rules for Guffey Gorge

The Royal Gorge Field Office, Colorado, issues these supplementary rules under the authority of the Federal Land Policy and Management Act (FLPMA), 43 U.S.C. 1740, and 43 CFR 8365.1-6. Enforcement authority for these supplementary rules on the public lands within the Guffey Gorge area is found in FLPMA, 43 U.S.C. 1733, and 43 CFR 8360.0-7.

These supplementary rules apply to approximately 80 acres of public lands known as Guffey Gorge, identified as follows:

Park County, Colorado, Sixth Principal Meridian

T. 15 S., R. 71 W.

Section 4: SE¼SE¼

Section 9: NE¼NE¼

Rules

Guffey Gorge is designated as a day-use only area with the following supplementary rules that you must follow:

a. No person or persons shall enter or be upon these lands between the hours of sunset and sunrise.

b. No person or persons shall have any type of fire except in a mechanical stove or other appliance fueled by gas, and equipped with a valve that allows the operator to turn the flame on and off.

c. No person or persons shall bring or possess glass containers.

d. No person or persons shall possess or discharge any fireworks.

e. No person or persons shall discharge a firearm of any kind, including those used for target shooting or paintball. Licensed hunters in legitimate pursuit of game during the proper season with appropriate firearms, as defined by the Colorado Division of Wildlife, are exempt from this rule.

f. All persons using these public lands shall keep the area free of trash, litter, and debris during the period of occupancy and shall remove all personal equipment upon departure.

Penalties

Under section 303(a) of the Federal Land Policy and Management Act of 1976, 43 U.S.C. 1733(a), and the Sentencing Reform Act of 1984, as amended, 18 U.S.C. 3571, if you violate any of these supplementary rules on public lands within the boundaries established in the rules, you may be tried before a United States Magistrate and fined no more than $100,000 or imprisoned for no more than 12 months, or both.

Douglas M. Koza,
Acting State Director, Colorado State Office.

[FR Doc. 05-22342 Filed 11-8-05; 8:45 am]

BILLING CODE 4310-JB-P